DEPARTMENT OF THE INTERIOR

Bureau of Land Management

[OR-958-1530-02-0036]

State Office Move; Oregon and Washington

AGENCY: Bureau of Land Management, Interior.

ACTION: Notice.

SUMMARY: This notice announces the move of the Bureau of Land Management (BLM) Oregon/Washington State Office, and the temporary closure of the Land Office during the move.

FOR FURTHER INFORMATION CONTACT: Sherrie L. Reid, Chief Realty Records Section, BLM Oregon/Washington State Office, 1515 S.W. 5th Ave., PO Box 2965, Portland, Oregon 97208-2955, (503)952-6655.

SUPPLEMENTARY INFORMATION: Effective at the close of business on January 16, 2002, the Land Office of the BLM Oregon State Office will close for the purpose of moving to 333 S.W. 1st. Ave., Portland, Oregon 97204. The Land Office provides access to and inspection of the official Public Land Tenure Records and Cadastral Survey Records of the Federal Government, and the serialized case files of active land and mineral transactions for Oregon and Washington. The Land Office will reopen, at the new address, at 8:30 a.m. on Monday, January 28, 2002. The Land Office telephone number will be (503) 808-6001.

The BLM Oregon State Office mailing address for delivery by the U.S. Post Office will remain PO Box 2965, Portland, Oregon 97208-2965. For other commercial delivery services that require a street address, the BLM Oregon State Office Warehouse address is: 14015 N.E. Airport Way, Portland, Oregon 97230.

Dated: November 19, 2001.
Robert D. DeViney, Jr.,
Chief, Branch of Realty and Records Services.

[FR Doc. 01-30229 Filed 12-5-01; 8:45 am]

BILLING CODE 4310-33-P